DEPARTMENT OF AGRICULTURE

Food and Nutrition Service

7 CFR Part 250

RIN 0584-AD45

Management of Donated Foods in Child Nutrition Programs, the Nutrition Services Incentive Program, and Charitable Institutions; Extension of Comment Period

AGENCY: Food and Nutrition Service, USDA.

ACTION: Proposed rule; extension of public comment period.

SUMMARY: The Food and Nutrition Service, USDA, is extending the public comment period on the proposed rule entitled “Management of Donated Foods in Child Nutrition Programs, the Nutrition Services Incentive Program, and Charitable Institutions,” which was published in the Federal Register on June 8, 2006 at 71 FR 33344. This document extends the public comment period from August 7, 2006 to September 7, 2006, in order to provide the public additional time to review the proposed rule.

DATES: Comments must be received on or before September 7, 2006.

ADDRESSES: Comments may be submitted, identified by RIN number 0584-AD45, by any of the following methods:

E-mail: Send comments to Robert.Delorenzo@fns.usda.gov. Include RIN number 0584-AD45 in the subject line of the message.

Fax: Submit comments by facsimile transmission to (703) 305-2420. Disk or CD-ROM: Submit comments on disk or CD-ROM to Lillie F. Ragan, Assistant Branch Chief, Policy Branch, Food Distribution Division, Food and Nutrition Service, U.S. Department of Agriculture, Room 500, 3101 Park Center Drive, Alexandria, Virginia 22302-1594.

Mail: Send comments to Lillie F. Ragan at the above address.

Hand Delivery or Courier: Deliver comments to the above address.

Federal eRulemaking Portal: Go to http://www.regulations.gov. Follow the online instructions for submitting comments.

FOR FURTHER INFORMATION CONTACT: For questions about this proposed rule, contact Lillie F. Ragan at the above address or telephone (703) 305-2662.

Dated: July 27, 2006.
George A. Braley,
Associate Administrator, Food and Nutrition Service.

[FR Doc. E6-12494 Filed 8-2-06; 8:45 am]

BILLING CODE 3410-30-P